DEPARTMENT OF AGRICULTURE

Grain Inspection, Packers and Stockyards Administration

7 CFR Part 800

RIN 0580-AB00

USDA's Role in Differentiating Grain Inputs for Ethanol Production and Standardizing Testing of Co-Products of Ethanol Production

AGENCY: Grain Inspection, Packers and Stockyards Administration, USDA.

ACTION: Withdrawal of advance notice of proposed rulemaking.

SUMMARY: The Grain Inspection, Packers and Stockyards Administration (GIPSA) published an advance notice of proposed rulemaking (ANPR) in the Federal Register on July 20, 2007 (72 FR 39762), inviting comments from interest persons regarding the appropriate government role in differentiating grain attributes for ethanol conversion, as well as standardizing the testing of co-products of ethanol production. The original notice provided an opportunity for interested parties to comment until September 18, 2007. In response to a request from the grain industry, on October 5, 2007 (72 FR 56945), we reopened the comment period until December 4, 2007, to provide interested parties with additional time in which to comment. The commenters overwhelmingly agreed that GIPSA should not intervene in standardizing testing of ethanol inputs and outputs. Accordingly, we will not initiate any rulemaking action at this time related to the matters presented in the ANPR.

FOR FURTHER INFORMATION CONTACT: Ross D. Heiman at USDA, GIPSA, FGIS, Market and Program Analysis Staff, Beacon Facility, STOP 1404, P.O. Box 419205, Kansas City, Missouri 64141; Telephone (816) 823-2580; Fax Number (816) 823-4644; e-mail Ross.D.Heiman@usda.gov.

SUPPLEMENTARY INFORMATION: We published an ANPR in the Federal Register on July 20, 2007, inviting comments from interested persons regarding the appropriate government role in differentiating grain attributes for ethanol conversion, as well as standardizing the testing of co-products of ethanol production. The initial comment period closed on September 18, 2007, but due to a request from the National Grain and Feed Association, the closing date for comments was extended through December 4, 2007, as published in the Federal Register.

We received 29 comments from individuals and organizations across the marketing chain. Overall, respondents do not want GIPSA to assist in the revision of existing definitions for ethanol co-products, establish standards for the co-products, or offer standardized tests for grain going into ethanol production or the resulting co-products, with one exception. Some commenters recommended that GIPSA's expertise in verifying the performance of commercial test kits might be applied to the marketing of the co-products. Commenters presented an overriding theme that the perceived needs of the ethanol industry will be best met by the various industry participants. One final observation was a recurring comment that the ethanol industry is relatively young, and because of this youth, GIPSA involvement (i.e., standardizing testing of ethanol inputs and outputs) may hinder its progress.

In view of the comments received, we will not initiate any rulemaking action related to the matters presented in the ANPR. We will continue to monitor developments and remain actively engaged with the ethanol and co-products markets and will support the industry, as appropriate, in its efforts to successfully market ethanol co-products.

Authority: (7 CFR 71-87k).

Randall D. Jones,
Acting Administrator, Grain Inspection, Packers and Stockyards Administration.

[FR Doc. E8-24946 Filed 10-20-08; 8:45 am]

BILLING CODE 3410-KD-P